DEPARTMENT OF COMMERCE

International Trade Administration

[A-570-095]

Aluminum Wire and Cable From the People's Republic of China: Final Affirmative Determination of Sales at Less Than Fair Value

AGENCY: Enforcement and Compliance, International Trade Administration, Department of Commerce.

SUMMARY: The Department of Commerce (Commerce) determines that aluminum wire and cable from the People's Republic of China (China) is being, or is likely to be, sold in the United States at less than fair value (LTFV).

DATES: Applicable October 30, 2019.

FOR FURTHER INFORMATION CONTACT: Mark Hoadley or Kathryn Turlo, AD/CVD Operations, Office VII, Enforcement and Compliance, International Trade Administration, U.S. Department of Commerce, 1401 Constitution Avenue NW, Washington, DC 20230; telephone: (202) 482-3148 or (202) 482-3870, respectively.

SUPPLEMENTARY INFORMATION:

Background

The petitioners in this investigation are Encore Wire Corporation (Encore) and Southwire Company, LLC (Southwire) (collectively, the petitioners). The mandatory respondents in this investigation are Hebei Huatong Wires and Cables Group Co., Ltd. (Huatong) and Shanghai Silin Special Equipment Co., Ltd. (Silin). On June 5, 2019, Commerce published its Preliminary Determination for this investigation and invited interested parties to comment.¹ A summary of the events that occurred since Commerce published the Preliminary Determination may be found in the Issues and Decision Memorandum.² The Issues and Decision Memorandum is a public document and is on file electronically via Enforcement and Compliance's Antidumping and Countervailing Duty Centralized Electronic Service System (ACCESS). ACCESS is available to registered users at http://access.trade.gov and it is available to all parties in the Central Records Unit, Room B8024 of the main Commerce building. In addition, a complete version of the Issues and Decision Memorandum can be accessed directly at http://enforcement.trade.gov/frn/. The signed Issues and Decision Memorandum and the electronic version are identical in content.

¹ See Aluminum Wire and Cable from the People's Republic of China: Affirmative Preliminary Determination of Sales at Less Than Fair Value and Postponement of Final Determination, 84 FR 26069 (June 5, 2019) (Preliminary Determination), and accompany Preliminary Decision Memorandum (PDM).

² See Memorandum, “Issues and Decision Memorandum for the Final Determination in the Less Than Fair Value Investigation of Aluminum Wire and Cable from the People's Republic of China,” dated concurrently with, and hereby adopted by, this notice (Issues and Decision Memorandum).

Period of Investigation

The period of investigation is January 1, 2018 through June 30, 2018.

Scope of the Investigation

The products covered by this investigation are aluminum wire and cable from China. For a full description of the scope of this investigation, see “Scope of the Investigation,” at Appendix I.

Scope Comments

During the course of this investigation and the concurrent countervailing duty (CVD) investigation, Commerce received scope comments from interested parties. In our Preliminary Determination, we explained that certain interested parties had commented on the scope of the investigation and that Commerce had preliminarily modified the scope.³ We received no additional scope comments; therefore, the scope remains unchanged from that which appeared in the Preliminary Determination.

³ See Preliminary Determination PDM at 5-7.

Verification

Because the mandatory respondents in this investigation did not provide information requested by Commerce, and Commerce found in the Preliminary Determination that each of the mandatory respondents have been uncooperative, verification was not conducted.

Analysis of Comments Received

In response to our invitation to comment on the Preliminary Determination, interested parties submitted case and rebuttal briefs to Commerce. All issues raised in the case and rebuttal briefs that were submitted by parties in this investigation are addressed in the Issues and Decision Memorandum. A list of the issues addressed in the Issues and Decision Memorandum is attached to this notice at Appendix II.

Changes Since the Preliminary Determination

Based on our analysis of the comments received, we made no changes to the Preliminary Determination. For a discussion of the comments received, see the Issues and Decision Memorandum.

China-Wide Entity

For the reasons explained in the Issues and Decision Memorandum, we are continuing to find that the use of adverse facts available (AFA), pursuant to sections 776(a) and (b) of the Tariff Act of 1930, as amended (the Act), is appropriate, and we are determining an estimated weighted-average dumping margin based entirely on AFA for the China-wide entity. Further, Commerce continues to consider the mandatory respondents, Huatong and Silin, to be a part of the China-wide entity. We continue to find that the China-wide entity, which also includes companies that failed to establish their eligibility for separate rate status as well as other Chinese exporters or producers that did not respond to Commerce's quantity and value questionnaire, withheld requested information, significantly impeded the proceeding, and failed to cooperate to the best of their abilities, and thus we are continuing to base the final determination for the China-wide entity on AFA. See the Issues and Decision Memorandum for a full discussion of this issue.

Adverse Facts Available

In selecting the estimated weighted-average dumping margin based on AFA for the China-wide entity, Commerce's practice is to select a rate that is sufficiently adverse to ensure that the uncooperative party does not obtain a more favorable result by failing to cooperate than if it had fully cooperated.⁴ Specifically, it is Commerce's practice to select, as an AFA rate, the higher of: (a) the highest dumping margin alleged in the petition; or, (b) the highest calculated dumping margin of any respondent in the investigation. As AFA, Commerce has determined an estimated weighted-average dumping margin for the China-wide entity of 63.47 percent. See the Issues and Decision Memorandum for a full discussion of this issue.

⁴ See, e.g., Notice of Preliminary Determination of Sales at Less Than Fair Value and Postponement of Final Determination: Purified Carboxymethyl cellulose from Finland, 69 FR 77216, 77219 (December 27, 2004), unchanged in Notice of Final Determination of Sales at Less Than Fair Value: Purified Carboxymethyl Cellulose from Finland, 70 FR 28279, 28279 (May 17, 2005).

Separate Rates

Certain parties commented on our decision in the Preliminary Determination to deny separate rate status to Huatong; however, we are continuing to deny separate rate status in this final determination. See the Issues and Decision Memorandum for a full discussion of this issue. Commerce also continues to find that Silin has not established its eligibility for a separate rate. No parties commented on our decision in the Preliminary Determination to grant separate rate status to Changfeng Wire & Cable Co., Ltd. (Changfeng) and Wuxi Jiangnan Cable Co. Ltd. (Wuxi Jiangnan). We therefore continue to grant separate rate status to these companies.

Combination Rates

We have continued to calculate producer/exporter combination rates for the respondents that are eligible for a separate rate. Policy Bulletin 05.1 describes this practice.⁵

⁵ See Enforcement and Compliance's Policy Bulletin No. 05.1, “Separate-Rates Practice and Application of Combination Rates in Antidumping Investigations involving Non-Market Economy Countries,” (April 5, 2005) (Policy Bulletin 05.1), available on Commerce's website at http://enforcement.trade.gov/policy/bull05-1.pdf.

Final Determination

The final estimated weighted-average dumping margins are as follows:

Exporter | Producer | Estimated weighted- average dumping margin (percent) | Estimated weighted- average dumping margin adjusted for export subsidies (percent)
Changfeng Wire & Cable Co., Ltd | Changfeng Wire & Cable Co., Ltd | 58.51 | 47.83
Wuxi Jiangnan Cable Co., Ltd | Wuxi Jiangnan Cable Co., Ltd | 58.51 | 47.83
China-wide entity * |  | 63.47 | 52.79
* Includes the mandatory respondents, Huatong and Silin.

Disclosure

We will disclose the calculations performed within five days of public announcement of this notice in accordance with 19 CFR 351.224(b).

Continuation of Suspension of Liquidation

In accordance with section 735(c)(1)(B) of the Act, we will direct U.S. Customs and Border Protection (CBP) to continue to suspend liquidation of aluminum wire and cable from China, as described in Appendix I of this notice, which were entered, or withdrawn from warehouse, for consumption on or after June 5, 2019, the date of publication in the Federal Register of the affirmative Preliminary Determination. Further, pursuant to section 735(c)(1)(B)(ii) of the Act and 19 CFR 351.210(d), Commerce will instruct CBP to require a cash deposit for estimated antidumping duties for such entries as follows: (1) for the exporter/producer combinations listed in the table above, the cash deposit rate is equal to the estimated weighted-average dumping margin, adjusted for export and/or domestic subsidies as appropriate, listed for that combination in the table; (2) for all combinations of Chinese exporters/producers not listed in the above table, the cash deposit rate is equal to the estimated weighted-average dumping margin, adjusted for export and/or domestic subsidies as appropriate, listed in the table for the China-wide entity; and (3) for all non-Chinese exporters not listed in the table above, the cash deposit rate is equal to the cash deposit rate applicable to the Chinese exporter/producer combination (or the China-wide entity) that supplied that non-Chinese exporter.

To determine the cash deposit rate, Commerce normally adjusts the estimated weighted-average dumping margin by the amount of domestic subsidy pass-through and export subsidies determined in a companion CVD proceeding when CVD provisional measures are in effect. Accordingly, where Commerce makes an affirmative determination for domestic subsidy pass through or export subsidies, Commerce offsets the calculated estimated weighted-average dumping margin by the appropriate rate(s). We have made an affirmative final determination for export subsidies in the companion CVD investigation. However, suspension of liquidation for provisional measures in the companion CVD case has been discontinued; therefore, we are not instructing CBP to collect cash deposits based upon the adjusted estimated weighted-average dumping margin for those subsidies at this time.

International Trade Commission Notification

In accordance with section 735(d) of the Act, Commerce will notify the International Trade Commission (ITC) of its final affirmative determination of sales at LTFV. Because the final determination in this proceeding is affirmative, in accordance with section 735(b)(2) of the Act, the ITC will make its final determination as to whether the domestic industry in the United States is materially injured, or threatened with material injury, by reason of imports, or sales (or the likelihood of sales) for importation of aluminum wire and cable from China no later than 45 days after our final determination. If the ITC determines that material injury or threat of material injury does not exist, the proceeding will be terminated, and all cash deposits will be refunded. If the ITC determines that such injury does exist, Commerce will issue an antidumping duty order directing CBP to assess, upon further instruction by Commerce, antidumping duties on all imports of the subject merchandise, entered, or withdrawn from warehouse, for consumption on or after the effective date of the suspension of liquidation.

Notification Regarding Administrative Protective Orders

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a violation subject to sanction.

Notification to Importers

This notice also serves as an initial reminder to importers of their responsibility under 19 CFR 351.402(f) to file a certificate regarding the reimbursement of antidumping duties prior to liquidation. Failure to comply with this requirement could result in Commerce's presumption that reimbursement of antidumping duties occurred and the subsequent assessment of doubled antidumping duties.

Notification to Interested Parties

This determination is issued and published in accordance with sections 735(d) and 777(i)(1) of the Act and 19 CFR 351.210(c).

Dated: October 18, 2019.
Carole Showers,
Executive Director, Office of Policy, Policy & Negotiations, Enforcement and Compliance.

Appendix I

Scope of the Investigation

The scope of the investigation covers aluminum wire and cable, which is defined as an assembly of one or more electrical conductors made from 8000 Series Aluminum Alloys (defined in accordance with ASTM B800), Aluminum Alloy 1350 (defined in accordance with ASTM B230/B230M or B609/B609M), and/or Aluminum Alloy 6201 (defined in accordance with ASTM B398/B398M), provided that: (1) At least one of the electrical conductors is insulated; (2) each insulated electrical conductor has a voltage rating greater than 80 volts and not exceeding 1,000 volts; and (3) at least one electrical conductor is stranded and has a size not less than 16.5 thousand circular mil (kcmil) and not greater than 1,000 kcmil. The assembly may: (1) Include a grounding or neutral conductor; (2) be clad with aluminum, steel, or other base metal; or (3) include a steel support center wire, one or more connectors, a tape shield, a jacket or other covering, and/or filler materials.

Most aluminum wire and cable products conform to National Electrical Code (NEC) types THHN, THWN, THWN-2, XHHW-2, USE, USE-2, RHH, RHW, or RHW-2, and also conform to Underwriters Laboratories (UL) standards UL-44, UL-83, UL-758, UL-854, UL-1063, UL-1277, UL-1569, UL-1581, or UL-4703, but such conformity is not required for the merchandise to be included within the scope.

The scope of the investigation specifically excludes aluminum wire and cable products in lengths less than six feet, whether or not included in equipment already assembled at the time of importation.

The merchandise covered by the investigation is currently classifiable under subheading 8544.49.9000 of the Harmonized Tariff Schedule of the United States (HTSUS). Products subject to the scope may also enter under HTSUS subheading 8544.42.9090. The HTSUS subheadings are provided for convenience and customs purposes. The written description of the scope of the investigation is dispositive.

Appendix II

List of Topics Discussed in the Preliminary Decision Memorandum

I. Summary

II. Background

III. Period of Investigation

IV. Scope of the Investigation

V. Changes Since the Preliminary Determination

VI. Adjustments to Cash Deposit Rates for Export Subsidies

VII. Adjustment Under Section 777A(f) of the Act

VIII. China-Wide Entity and Use of Facts Otherwise Available and Adverse Inferences

IX. Discussion of the Issues

Comment 1: Selection of the AFA Rate

Comment 2: Application of Total AFA to Huatong

Comment 3: Huatong's Eligibility for a Separate Rate

Comment 4: Application of Total AFA to Silin

Comment 5: Offset of Countervailable Benefits for Aluminum Rod

X. Recommendation

[FR Doc. 2019-23612 Filed 10-29-19; 8:45 am]

BILLING CODE 3510-DS-P